DEPARTMENT OF THE INTERIOR

National Park Service

Final General Management Plan/Environmental Impact Statement, Badlands National Park, North Unit, South Dakota

AGENCY: National Park Service, Department of the Interior.

SUMMARY: Pursuant to section 102(2)(C) of the National Environmental Policy Act of 1969, the National Park Service (NPS) announces the availability of the Record of Decision (ROD) for the Final General Management Plan/Environmental Impact Statement (GMP/EIS) for Badlands National Park, North Unit (park). A separate GMP is being developed for the guidance and management of the South Unit of Badlands National Park, and is scheduled to be completed in three years. Specifically, the NPS has selected the preferred alternative as described in the Final GMP/EIS. Under the selected action, the NPS will provide expanded opportunities for visitors to use the North Unit of the park. The number of locations where visitors could obtain park information and orientation will be increased with new visitor contact stations added near Pinnacles and in the town of Scenic. In addition, more hiking trails and routes will be designated in various parts of the park. Education pavilions will be added in the Conata picnic area and west of County Road 502 along with a group campground. Additional studies and environmental documents will be developed, as appropriate, to examine alternative road alignments for the Loop Road at Cedar Pass. Finally, the NPS will recommend expanding the park's boundaries in two locations to enhance resource protection and offer additional visitor experiences. One boundary expansion will incorporate approximately 5,400 acres along South Dakota Highway 44. The other recommended addition will be 4,500 acres along the western edge adjacent to the wilderness area.

The selected action and three other alternatives were analyzed in the draft and final GMP/EIS. The full range of foreseeable environmental consequences was assessed. Among the alternatives the NPS considered, the selected action best achieves a high standard of natural and cultural resource protection with improved opportunities for visitors in the park. Furthermore, the selected action responds to the changing visitation pattern the park has been experiencing. In the recent years, western South Dakota has become more of a destination for visitors with Rapid City serving as the hub for this visitation. This shift in tourism patterns has increased the number of park visitors entering the park through the western entrances. The selected action also provides needed improvements for park operations, such as areas for additional park housing and research support. The park is located in a rural area and housing for employees is limited in the surrounding communities. In addition, the park has developed a good relationship with the natural resources research community but has limited facilities for supporting these efforts. The selected action would address the need to provide facilities for park operations and research. The selected action also meets national environmental policy goals will not result in the impairment of resources and values.

The ROD includes a statement of the decision made, synopses of other alternatives considered, the basis for the decision, the rationale for why the selected action is the environmentally preferred alternative, a finding of no impairment of park resources and values, and an overview of public involvement in the decisionmaking process.

FOR FURTHER INFORMATION CONTACT: Superintendent Paige Baker, Badlands National Park, 25216 Ben Reifel Road, P.O. Box 6, Interior, South Dakota 57750, telephone 605-433-5361.

SUPPLEMENTARY INFORMATION: Copies of the Record of Decision may be obtained from the contact listed above or may be viewed online at http://parkplanning.nps.gov/.

Dated: December 14, 2006.
Ernest Quintana,
Regional Director, Midwest Region.

This document was received at the Office of the Federal Register on April 19, 2007.

[FR Doc. E7-7744 Filed 4-23-07; 8:45 am]

BILLING CODE 4312-AD-P